NUCLEAR REGULATORY COMMISSION

[Docket No. 72-8]

Calvert Cliffs Nuclear Power Plant; Issuance of Environmental Assessment and Finding of No Significant Impact Regarding an Amendment

AGENCY: Nuclear Regulatory Commission.

ACTION: Environmental assessment.

FOR FURTHER INFORMATION CONTACT: Joseph M. Sebrosky, Senior Project Manager, Spent Fuel Project Office, Office of Nuclear Material Safety and Safeguards, U.S. Nuclear Regulatory Commission, Washington, DC 20555. Telephone: (301) 415-1132; fax number:(301) 425-8555; e-mail: jms3@nrc.gov.

SUPPLEMENTARY INFORMATION: The U.S. Nuclear Regulatory Commission (NRC or the Commission) is considering issuance of an amendment to Special Materials License No. 2505 that would add the NUHOMS-32P as an optional design to the existing NUHOMS-24P design for dry storage of spent nuclear fuel. Calvert Cliffs Nuclear Power Plant, Inc. (CCNPP) is currently storing spent nuclear fuel at the Calvert Cliffs independent spent fuel storage installation (ISFSI) located in Calvert County, Maryland.

Environmental Assessment (EA)

Identification of Proposed Action: By letter dated December 12, 2003, as supplemented, CCNPP submitted a request to the NRC to amend the license (SNM-2505) to add the NUHOMS-32P as an optional design to the existing NUHOMS-24P design for dry storage of spent fuel. The NUHOMS-32P design stores eight more spent fuel assemblies than the NUHOMS-24P design.

The proposed action before the NRC is whether to approve the amendment.

Need for the Proposed Action: The proposed action would allow CCNPP to optimize its dry spent fuel storage capacity by upgrading portions of its ISFSI to use the NUHOMS-32P dry shielded canister. The proposed action would allow CCNPP to reduce the minimum number of canister loadings each year from four (using the NUHOMS-24P design) to three (with the NUHOMS-32P design).

Environmental Impacts of the Proposed Action: The staff has determined that the proposed action would not endanger life or property. No effluents are released from the ISFSI during operation and the proposed changes have no impact to dry shielded canister loading activities. Therefore, there is no significant change in the type or significant increase in the amounts of any effluents that may be released offsite. There is also no significant increase with regard to individual or cumulative occupational radiation exposures because of the proposed action. The proposed amendment includes a technical specification change that would specify that the current neutron source term technical specification limit of ≤2.23E8 would apply to the NUHOMS-24P design and that the NUHOMS-32P design would have a neutron source assembly technical specification limit of ≤3.3E8 neutrons/second/assembly. The contact dose rate for the NUHOMS-32P design in a loss of neutron shielding accident with the revised neutron source term is 1517 mrem/hr. The contact dose rate for the NUHOMS-24P design in a loss of neutron shielding accident is 1126 mrem/hr. The regulatory limit for a design basis accident is 5 rem at 100 meters in accordance with 10 CFR 72.106. When compared to the regulatory limit, the dose rate increase from a loss of neutron shielding for the NUHOMS-32P design would be a minimal change from the dose rate for a loss of neutron shielding accident for a NUHOMS-24P design. All of the other proposed changes have no impact on radiation exposure. Therefore, there are no significant radiological environmental impacts associated with the proposed action.

The amendment only affects the requirements associated with the loading of the casks and does not affect non-radiological plant effluents or any other aspects of the environment. Therefore, there are no significant non-radiological impacts associated with the proposed action.

Accordingly, the Commission concludes that there are no significant environmental impacts associated with the proposed action.

Alternative to the Proposed Action: As an alternative to the proposed action, the staff considered denial of the amendment request (i.e., the “no-action” alternative). Approval or denial of the amendment request would result in minimal change in the environmental impacts. Therefore, the environmental impacts of the proposed action and the alternative action are similar.

Agencies and Persons Consulted: On April 28, 2005, Richard McLean of the State of Maryland was contacted regarding the proposed action and had no concerns. The NRC staff has determined that consultation under Section 7 of the Endangered Species Act is not required for this specific amendment and will not affect listed species or critical habitat. The NRC staff has also determined that the proposed action is not a type of activity having the potential to cause effects on historic properties. Therefore, no consultation is required under Section 106 of the National Historic Preservation Act.

Conclusions: The staff has reviewed the amendment request submitted by CCNPP and has determined that adding the NUHOMS-32P as an optional design to the existing NUHOMS-24P design for dry storage of spent nuclear fuel would have no significant impact on the environment.

Finding of No Significant Impact

The environmental impacts of the proposed action have been reviewed in accordance with the requirements set forth in 10 CFR part 51. Based upon the foregoing EA, the NRC finds that the proposed action of approving the amendment to the license will not significantly impact the quality of the human environment. Accordingly, the NRC has determined that an environmental impact statement for the proposed license amendment is not warranted.

The request for amendment was docketed under 10 CFR part 72, Docket 72-8. For further details with respect to this action, see the proposed license amendment dated December 12, 2003, as supplemented, by a letter dated May 12, 2004. The NRC maintains an Agencywide Documents Access Management System (ADAMS), which provides text and image files of NRC's public documents. These documents may be accessed through the NRC's Public Electronic Reading Room on the Internet at: http://www.nrc.gov/reading-rm/adams.html. Copies of the referenced documents will also be available for review at the NRC Public Document Room (PDR), located at 11555 Rockville Pike, Rockville, MD, 20852. PDR reference staff can be contacted at 1-800-397-4209, 301-415-4737 or by e-mail to pdr@nrc.gov. The PDR reproduction contractor will copy documents for a fee.

Dated in Rockville, Maryland, this 11th of May, 2005.
For The Nuclear Regulatory Commission
Joseph M. Sebrosky,
Senior Project Manager, Spent Fuel Project Office, Office of Nuclear Material Safety and Safeguards.

[FR Doc. E5-2586 Filed 5-23-05; 8:45 am]

BILLING CODE 7590-01-P